DEPARTMENT OF STATE

[Public Notice: 6890]

Bureau of Educational and Cultural Affairs; Secondary School Student Sponsor On-Site Reviews

ACTION: Notice.

SUMMARY: The Department has designated United States organizations to conduct Secondary School Student exchange programs since 1949, following passage of the United States Information and Educational Exchange Act of 1948 and adoption of 22 CFR part 62—Exchange Visitor Program regulations (14 FR 4592, July 22, 1949). Over the last 60 years, more than 850,000 foreign exchange students have lived in and learned about America through these Secondary School Student programs. Educational and cultural exchanges are the cornerstone of U.S. public diplomacy and an integral component of American foreign policy. Secondary School Student exchange programs promote mutual understanding by providing foreign students the opportunity to study in American high schools while living with American host families. Not only are the students themselves positively transformed and enriched by these experiences, but so too are their families, friends, and teachers in their home countries.

Globalization and the changing demographics of potential American host families, however, are having an impact on the traditional Secondary School Student exchange model. As a result, the Department has taken steps over the past several years to clarify and amend existing regulations; identify program issues that require further attention; cap program growth; more closely monitor sponsor performance; evaluate sponsor compliance; and, when necessary, impose administrative sanctions up to an including the revocation of the sponsor's program designation. In addition to these efforts, the Department has determined that a comprehensive review of each individual designated sponsor organization and its business practices is necessary to assist the Department in meeting both its policy objectives and oversight obligations for this category of exchange. The review of individual designated sponsors is conducted under the Department's regulatory authorities set forth at 22 CFR part 62.

Initially, the Department will conduct on-site reviews of all fee charging program sponsors. Excluded from this first round of review are all Rotary programs, schools, school districts, and government programs. Following the first round of on-site reviews, the Department will determine whether to conduct on-site reviews of some or all of the remaining non-fee-charging sponsors, or if a comparable review of these programs can be conducted through some alternative method.

The Department intends to examine a broad range of sponsor operations. The process will encompass in-depth financial review; examination of program pricing structures; appraisal of organizational operating models; review of hiring criteria and training policies for program employees and agents; evaluation of third party contractor relationships; and standard operating procedures, especially those related to the screening and selection of host families and the repatriation of program participants. Other areas of review will include, but are not limited to, decision-making processes (including the numbers of students accepted); self-imposed compliance mechanisms; procedures for handling student problems; standards for the selection of housing with host families; and policies for refunding deposits or payments when applicants cannot participate due to visa denial or sponsor inability to secure a placement. The Department will also examine the relationships between sponsors and third parties, including foreign partners. In the case of foreign partners, the Department will review their role in the overall placement process and the fees they charge for their services. The Department will scrutinize all contractual relationships under which designated sponsors outsource “core” services, i.e., the screening, selection, placement, orientation, and monitoring functions that constitute the core elements of international exchange programming.

It is the Department's intention that the burden of these reviews on sponsors will be minimal. Most document production will precede the on-site reviews and will involve standard and already existing business documents. The on-site portion of the review will entail interviews with key employees and review of files, but may also involve other follow-on areas of inquiry.

Sponsors will be given at least ten business days' notice of the on-site review at which time they will be asked to submit required documentation within five business days. The Department will try to be flexible with scheduling of reviews to ensure the availability of the sponsor's responsible officer, alternate responsible officer(s), and other key employees who will need to be interviewed. Many of the reviews will be completed in two business days by two-person teams of Department employees from the Office of Designation and the Office of Exchange Coordination and Compliance. Individual circumstances, however, may result in the Department bringing additional staff or extending the length of the review. In addition, a representative from both the Department's Bureau of Educational and Cultural Affairs Grants Office and Youth Programs Division will join the review teams for those sponsors that place secondary school students under the terms of grant awards.

These reviews will not replace the redesignation process nor alter the requirements that sponsors submit applications for redesignation prior to the expiration of their current designations. Nor will the reviews take the place of the annual data reports required by regulation. Following the reviews, the Department will compile and share best practices and lessons learned with the exchange community. The Department recognizes it may also find operations that require the imposition of corrective action plans, or it may find that some entities no longer meet the eligibility requirements necessary to retain their designations. The Department believes that these reviews will provide an opportunity for continued growth of the partnership between the Department and program sponsors necessary and that the reviews will further our shared goal of ensuring that these young and potentially vulnerable exchange program participants all return to their countries with fond and meaningful memories of their successful exchange adventure in the United States of America.

Dated: January 28, 2010.
Stanley S. Colvin,
Deputy Assistant Secretary for Private Sector Exchanges, Bureau of Educational and Cultural Affairs, Department of State.

[FR Doc. 2010-2266 Filed 2-2-10; 8:45 am]

BILLING CODE 4710-05-P